DEPARTMENT OF JUSTICE

Notice of Lodging of Consent Decree Pursuant to Comprehensive Environmental Response, Compensation, and Liability Act

In accordance with Departmental policy, 28 CFR 50.7, notice is hereby given that, on April 2, 2001, a proposed Consent Decree Between the United States of America and Rexam Beverage Can Company, Inc. and Primerica, Inc. (the decree) in United States v. Russell Martin Bliss, et al. (the Missouri Dioxin Litigation), Civil Action No. 89-363C-1 (E.D. Mo.) was lodged with the United States District Court for the Eastern District of Missouri.

The decree resolves claims for injunctive relief and response costs under sections 106 and 107(a)(3) of the Comprehensive Environmental Response, Corporation, and Liability Act, 42 U.S.C. §§ 9606 and 9607(a)(3), against Rexam Beverage Can Company, Inc. and Primerica, Inc. arising out of the disposal and subsequent clean-up of wastes at the Bliss-Ellisville Superfund Site in St. Louis County, Missouri. Pursuant to the decree, Rexam and Primerica will pay $1,750,000 to the Hazardous Substances Superfund. The monies paid by the settling defendants under the decree will reimburse past federal costs at the Site. The decree provides the settling defendants with releases from civil liability for injunctive relief and response costs at the Site.

For thirty (30) days following this publication, the Department of Justice will receive comments relating to the proposed decree. Comments should be addressed to the Assistant Attorney General of the Environmental and Natural Resources Division, United States Department of Justice, Post Office Box 7611, Washington, DC 20044-7611, and should refer to United States v. Russell Martin Bliss, et al. ( the Missouri Dioxin Litigation), Civil Action No. 89-363C-1, DOJ no. 90-11-2-41E.

The proposed decree may be examined at the offices of the United States Attorney, Eastern District of Missouri, United States Court and Custom House, 111 S. 10th Street-20th Floor, St. Louis, Missouri 63101, and the United States Environmental Protection Agency—Region VII, 901 N. 5th Street, Kansas City, Kansas, 66101. The decree may also be obtained by mail from the United States Department of Justice Consent Decree Library, Post Office Box 7611, Washington, DC 20044-7611. In requesting a copy, please enclose a check in the amount of $5.25 (25 cents per page reproduction cost).

Robert E. Maher,
Assistant Chief, Environmental Enforcement Section, Environment and Natural Resources Division.

[FR Doc. 01-8912 Filed 4-10-01; 8:45 am]

BILLING CODE 4410-15-M